SECURITIES AND EXCHANGE COMMISSION

[Release No. IC-25984]

Notice of Applications for Deregistration Under Section 8(f) of the Investment Company Act of 1940

March 28, 2003.

The following is a notice of applications for deregistration under section 8(f) of the Investment Company Act of 1940 for the month of March, 2003. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on April 22, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0506.

John Hancock Cash Reserve, Inc.

[File No. 811-2995]

Summary: Applicant seeks an order declaring that it has ceased to be an investment company. On December 7, 2001, applicant transferred its assets to John Hancock U.S. Government Cash Reserve, a series of John Hancock Current Interest, based on net asset value. Expenses of $16,000 incurred in connection with the reorganization were paid by the acquiring fund.

Filing Date: The application was filed on March 20, 2003.

Applicant's Address: 101 Huntington Ave., Boston, MA 02199-7603.

Global Investment Portfolio

[File No. 811-8454]

Summary: Applicant, a master fund in a master-feeder structure, seeks an order declaring that it has ceased to be an investment company. On September 10, 2001, applicant distributed all of its assets in-kind to AIM Global Consumer Products and Services Fund, applicant's feeder fund. Expenses of $153,338 incurred in connection with the liquidation were paid by applicant.

Filing Date: The application was filed on March 17, 2003.

Applicant's Address: 11 Greenway Plaza, Suite 100, Houston, TX 77046-1173.

Amadeo Trust

811-9409]

Applicant, a unit investment trust, seeks an order declaring that it has ceased to be an investment company. On December 18, 2002, applicant made a liquidating distribution to its unitholders, based on net asset value. Expenses of $19,000 incurred in connection with the liquidation were paid by Amadeo, Inc.

Filing Dates: The application was filed on January 31, 2003, and amended on March 24, 2003.

Applicant's Address: 233 South Fourth Street, Suite 305-11, Las Vegas, NV 89101.

PIC Technology Portfolio

[File No. 811-10149]

Summary: Applicant seeks an order declaring that it has ceased to be an investment company. On January 31, 2002, applicant made a liquidating distribution to its shareholders, based on net asset value. Applicant incurred no expenses in connection with the liquidation.

Filing Dates: The application was filed on February 5, 2003, and amended on March 18, 2003.

Applicant's Address: 300 N. Lake Ave., Pasadena, CA 91101.

Emerging Markets Debt Portfolio (Formerly Known as Global High Income Portfolio)

[File No. 811-7302]

Summary: Applicant, a master fund in a master-feeder structure, seeks an order declaring that it has ceased to be an investment company. On June 19, 2000, applicant's feeder fund redeemed in-kind its interest in applicant based on net asset value. Expenses of $126,977 incurred in connection with the liquidation were paid by applicant's adviser, AIM Advisors, Inc.

Filing Dates: The application was filed on March 9, 2001, and amended on March 17, 2003.

Applicant's Address: 11 Greenway Plaza, Suite 100, Houston, TX 77046-1173.

Growth Portfolio

[File No. 811-7363]

Summary: Applicant, a master fund in a master-feeder structure, seeks an order declaring that it has ceased to be an investment company. On September 11, 2000, applicant's feeder fund redeemed in-kind its interest in applicant based on net asset value. Expenses of $152,114 incurred in connection with the liquidation were paid by applicant's adviser, AIM Advisors, Inc.

Filing Dates: The application was filed on March 9, 2001, and amended on March 17, 2003.

Applicant's Address: 11 Greenway Plaza, Suite 100, Houston, TX 77046-1173.

Dessauer Global Equity Fund

[File No. 811-7691]

Summary: Applicant seeks an order declaring that it has ceased to be an investment company. On October 25, 2002, applicant transferred its assets to Dessauer Global Equity Fund, a series of the Advisors Series Trust, based on net asset value. Expenses of $118,780 incurred in connection with the reorganization were paid by applicant's investment adviser, McIntyre, Freedman & Flynn, and applicant's administrator, U.S. Bancorp Fund Services, LLC.

Filing Date: The application was filed on March 6, 2003.

Applicant's Address: McIntyre, Freedman & Flynn, 4 Main St., P.O. Box 1689, Orleans, MA 02653.

FSP Investment Trust

[File No. 811-10611]

Summary: Applicant seeks an order declaring that it has ceased to be an investment company. On February 25, 2003, and February 26, 2003, applicant distributed its assets to its shareholders, based on net asset value. Expenses of approximately $31,700 incurred in connection with the liquidation were paid by applicant. Any additional expenses will be paid by Franklin Street Advisors, Inc., applicant's investment adviser.

Filing Date: The application was filed on February 28, 2003.

Applicant's Address: 116 South Franklin St., P.O. Box 69, Rocky Mount, NC 27802-0069.

Credit Suisse Institutional U.S. Core Equity Fund, Inc.

[File No. 811-8919]

Credit Suisse Global New Technologies Fund, Inc.

[File No. 811-9961]

Credit Suisse Global Financial Services Fund, Inc.

[File No. 811-9963]

Summary: Each applicant seeks an order declaring that it has ceased to be an investment company. By October 23, 2002, November 25, 2002, and February 15, 2003, respectively, all shareholders of each applicant had redeemed their shares at net asset value. Applicants incurred no expenses in connection with the liquidations.

Filing Date: The applications were filed on March 3, 2003.

Applicants' Address: 466 Lexington Ave., New York, NY 10017.

NBP TrueCrossing Funds

[File No. 811-9509]

Summary: Applicant seeks an order declaring that it has ceased to be an investment company. By November 26, 2002, all shareholders of applicant had redeemed their shares at net asset value. Expenses of $10,348 incurred in connection with the liquidation were paid by applicant.

Filing Date: The application was filed on February 14, 2003.

Applicant's Address: Two Portland Sq., Portland, ME 04101.

Impact Management Investment Trust

[File No. 811-8065]

Summary: Applicant seeks an order declaring that it has ceased to be an investment company. On December 17, 2002, applicant made a liquidating distribution to its shareholders, based on net asset value. Expenses of approximately $31,000 incurred in connection with the liquidation were paid by applicant.

Filing Date: The application was filed on February 14, 2003.

Applicant's Address: 333 West Vine St., Suite 206, Lexington, KY 40507.

First Eagle Funds

[File No. 811-4935]

Summary: Applicant seeks an order declaring that it has ceased to be an investment company. On December 31, 2002, applicant transferred its asset to First Eagle Fund of America, a series of First Eagle Funds, Inc. (formerly, First Eagle SoGen Funds, Inc.), based on net asset value. Expenses of $150,000 incurred in connection with the reorganization were paid pro rata by applicant and the acquiring fund.

Filing Date: The application was filed on February 14, 2003.

Applicant's Address: 1345 Avenue of the Americas, New York, NY 10105.

LaCrosse Funds, Inc.

[File No. 811-9051]

Summary: Applicant seeks an order declaring that it has ceased to be an investment company. On August 26, 2002, applicant transferred its assets to Mosaic Equity Trust, based on net asset value. Expenses of $132,604 incurred in connection with the reorganization were paid by LaCrosse Advisers, LLC, applicant's investment adviser.

Filing Date: The application was filed on February 11, 2003.

Applicant's Address: 311 Main St., LaCrosse, WI 54602.

Rupay-Barrington Funds, Inc.

[File No. 811-8516]

Summary: Applicant seeks an order declaring that it has ceased to be an investment company. By December 31, 2000, applicant had made a liquidating distribution to all of its shareholders, based on net asset value. All expenses incurred in connection with the liquidation were paid by The Rupay-Barrington Financial Group, Inc.

Filing Dates: The application was filed on June 8, 2000, and amended on June 9, 2000, and March 3, 2003.

Applicant's Address: 1000 Ballpark Way, Suite 302, Arlington, TX 76011.

For the Commission, by the Division of Investment Management, pursuant to delegated authority.
Margaret H. McFarland,
Deputy Secretary.

[FR Doc. 03-8032 Filed 4-2-03; 8:45 am]

BILLING CODE 8010-01-P